DEPARTMENT OF THE INTERIOR

National Park Service

[NPS-WASO-NAGPRA-NPS0039809; PPWOCRADN0-PCU00RP14.R50000]

Notice of Inventory Completion: New York State Office of Parks, Recreation & Historic Preservation, Waterford, NY

AGENCY: National Park Service, Interior.

ACTION: Notice.

SUMMARY: In accordance with the Native American Graves Protection and Repatriation Act (NAGPRA), the New York State Office of Parks, Recreation & Historic Preservation (NYOPRHP) has completed an inventory of human remains and has determined that there is a cultural affiliation between the human remains and Indian Tribes or Native Hawaiian organizations in this notice.

DATES: Repatriation of the human remains in this notice may occur on or after May 2, 2025.

ADDRESSES: Jessica Vavrasek, New York State Office of Parks, Recreation & Historic Preservation, Peebles Island State Park, P.O. Box 189, Waterford, NY 12188-0189, telephone (518) 268-2199, email Jessica.Vavrasek@parks.ny.gov.

SUPPLEMENTARY INFORMATION: This notice is published as part of the National Park Service's administrative responsibilities under NAGPRA. The determinations in this notice are the sole responsibility of the NYOPRHP, and additional information on the determinations in this notice, including the results of consultation, can be found in its inventory or related records. The National Park Service is not responsible for the determinations in this notice.

Abstract of Information Available

Human remains representing, at least, five individuals have been identified. No associated funerary objects are present. These human remains were recovered through archaeological excavations conducted on and around Ganondagan State Park or through donated collections that were collected near Letchworth State Park. It is suspected that all of these remains were collected from disturbed contexts and were not removed from intact burials.

Consultation

Invitations to consult were sent to the Cayuga Nation; Seneca Nation of Indianans; Seneca-Cayuga Nation; Tonawanda Band of Seneca; and the Tuscarora Nation. The Seneca Nation of Indians and the Tonawanda Band of Seneca responded yes to NYOPRHP's request for consultation on this matter.

Cultural Affiliation

Based on the information available and the results of consultation, cultural affiliation is reasonably identified by the geographical location or acquisition history of the human remains described in this notice.

Determinations

The NYOPRHP has determined that:

• The human remains described in this notice represent the physical remains of five individuals of Native American ancestry.

• There is a connection between the human remains described in this notice and the Seneca Nation of Indians and the Tonawanda Band of Seneca.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 2, 2025. If competing requests for repatriation are received, the NYOPRHP must determine the most appropriate requestor prior to repatriation. Requests for joint repatriation of the human remains are considered a single request and not competing requests. The NYOPRHP is responsible for sending a copy of this notice to any consulting lineal descendant, Indian Tribe, or Native Hawaiian organization.

Authority: Native American Graves Protection and Repatriation Act, 25 U.S.C. 3003, and the implementing regulations, 43 CFR 10.10.

Dated: March 21, 2025.
Melanie O'Brien,
Manager, National NAGPRA Program.

[FR Doc. 2025-05604 Filed 4-1-25; 8:45 am]

BILLING CODE 4312-52-P